NATIONAL SCIENCE FOUNDATION

Notice of Availability of Final Environmental Impact Statement (FEIS)

AGENCY: National Science Foundation.

ACTION: Notice of Availability of Final Environmental Impact Statement (FEIS).

SUMMARY: The National Science Foundation (NSF) is considering whether to approve a proposal submitted by the National Solar Observatory to fund the construction of the Advanced Technology Solar Telescope (ATST) Project at the Haleakalā High Altitude Observatory site on the Island of Maui, Hawai`i. The NSF has prepared a Final Environmental Impact Statement (FEIS) for the proposed ATST Project that serves as a joint Federal and State of Hawai`i document prepared in compliance with the Federal National Environmental Policy Act, 42 U.S.C. 4321, et seq. (NEPA), and the State of Hawai`i Chapter 343, Hawai`i Revised Statutes. This FEIS was also prepared to evaluate the potential environmental impacts associated with the issuance of a National Park Service Special Use Permit, pursuant to 36 CFR 5.6, to operate commercial vehicles on the Haleakalā National Park road during the construction and operation of the proposed ATST Project, if approved.

Please note that responses to all comments received (including all written comments and those provided through testimony at the public hearings) on both the Draft Environmental Impact Statement (September 2006), and on the Supplemental Draft Environmental Impact Statement (May of 2009), are included in Volume IV of the FEIS. The written comments and transcripts of public hearings are also included in Volume IV. The FEIS reflects the changes made to the SDEIS based on the comments received, availability of new data, and correction of errors and omissions. The FEIS is now available on the Internet at: http://atst.nso.edu/nsf-env in Adobe® portable document format (PDF). The FEIS has also been distributed to interested Federal, State, and local agencies, organizations, and individuals, as well as selected repositories.

DATES: The NSF will issue a record of decision (ROD) for the proposed ATST Project following consideration of the entire administrative record for the proposed ATST Project, including the FEIS and NSF's compliance with Section 106 of the National Historic Preservation Act. The ROD will be issued no earlier than August 31, 2009, or 30 days from the date of publication in the Federal Register of the U.S. Environmental Protection Agency's Notice of Availability of the FEIS, whichever is later. Limited hard copies of the ROD will be available, on a first request basis, by contacting the NSF contact, Craig Foltz, Ph.D., ATST Program Director, 4201 Wilson Boulevard, Room 1045, Arlington, VA 22230, Telephone: 703-292-4909, e-mail: cfoltz@nsf.gov. The ROD will also be available on the Internet at the web address provided above.

FOR FURTHER INFORMATION CONTACT: Craig Foltz, Ph.D., ATST Program Manager, National Science Foundation, Division of Astronomical Sciences, 4201 Wilson Boulevard, Room 1045, Arlington, VA 22230, Telephone: 703-292-4909, Fax: 703-292-9034, E-mail: cfoltz@nsf.gov.

Dated: July 24, 2009.
Craig Foltz,
ATST Program Manager, National Science Foundation.

[FR Doc. E9-18027 Filed 7-28-09; 8:45 am]

BILLING CODE 7555-01-P